DEPARTMENT OF ENERGY

Federal Energy Regulatory Commission

Combined Notice of Filings #1

Take notice that the Commission received the following exempt wholesale generator filings:

Docket Numbers: EG12-75-000.

Applicants: OLS ENERGYAGNEWS INC.

Description: Notice of Self-Certification of Exempt Wholesale Generator Status.

Filed Date: 6/8/12.

Accession Number: 20120608-5138.

Comments Due: 5 p.m. ET 6/29/12.

Take notice that the Commission received the following electric rate filings:

Docket Numbers: ER11-3405-001; ER11-3406-001; ER11-3407-001; ER10-2897-003; ER12-1865-001.

Applicants: Krayn Wind LLC, Howard Wind LLC, Highland North LLC, EverPower Wind Holdings, Inc., Mustang Hills, LLC.

Description: Notice of Change in Status of EverPower Wind Holdings, Inc., et al.

Filed Date: 6/7/12.

Accession Number: 20120607-5127.

Comments Due: 5 p.m. ET 6/28/12.

Docket Numbers: ER12-1986-000.

Applicants: Tucson Electric Power Company.

Description: Amended and Restated Balancing Agreement with Red Mesa to be effective 8/7/2012.

Filed Date: 6/8/12.

Accession Number: 20120608-5128.

Comments Due: 5 p.m. ET 6/29/12.

Docket Numbers: ER12-1987-000.

Applicants: O.L.S. Energy-Agnews, Inc.

Description: Application for Market-Based Rate Authorization to be effective 6/9/2012.

Filed Date: 6/8/12.

Accession Number: 20120608-5135.

Comments Due: 5 p.m. ET 6/29/12.

Docket Numbers: ER12-1988-000.

Applicants: PJM Interconnection, L.L.C.

Description: Revisions to the Tariff Att Q to modify PJM's Credit Standards for Virtual Bids to be effective 8/8/2012.

Filed Date: 6/8/12.

Accession Number: 20120608-5145.

Comments Due: 5 p.m. ET 6/29/12.

Docket Numbers: ER12-1989-000.

Applicants: SunPower Corporation, Systems.

Description: SunPower Corporation, Systems MBR Filing to be effective 7/7/2012.

Filed Date: 6/8/12.

Accession Number: 20120608-5147.

Comments Due: 5 p.m. ET 6/29/12.

Take notice that the Commission received the following electric securities filings:

Docket Numbers: ES12-41-000.

Applicants: ISO New England Inc.

Description: Supplement to Application of ISO New England Inc. under Section 204 of the Federal Power Act For An Order Authorizing the Issuance of Securities.

Filed Date: 6/8/12.

Accession Number: 20120608-5065.

Comments Due: 5 p.m. ET 6/18/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2012.
Nathaniel J. Davis, Sr.,
Deputy Secretary.

[FR Doc. 2012-15141 Filed 6-20-12; 8:45 am]

BILLING CODE 6717-01-P